DEPARTMENT OF COMMERCE

National Oceanic and Atmospheric Administration

[Docket Number: 000531160-1138-02]

RIN 0648-ZA89

Announcement of Graduate Research Fellowships in the National Estuarine Research Reserve System for Fiscal Year 2002

AGENCY: Estuarine Reserves Division (ERD), Office of Ocean and Coastal Resource Management (OCRM), National Ocean Service (NOS), National Oceanic and Atmospheric Administration (NOAA), Department of Commerce (DOC).

ACTION: Notice.

SUMMARY: The Estuarine Reserves Division (ERD) of the Office of Ocean and Coastal Resource Management is soliciting applications for graduate fellowship funding within the National Estuarine Research Reserve System. This notice sets forth funding priorities, selection criteria, and application procedures.

The National Estuarine Research Reserve System of the National Oceanic and Atmospheric Administration (NOAA) announces the availability of Graduate Research Fellowships. ERD anticipates that 18 Graduate Research Fellowships will be competitively awarded to qualified graduate students whose research occurs within the boundaries of at least one Reserve. Minority students are encouraged to apply. Fellowships will start June 1, 2002. A later start date may be requested with justification and will be reviewed by ERD for approval.

DATES: Applications must be postmarked no later than November 1, 2001. Notification regarding the awarding of fellowships will be issued on or about March 1, 2002.

ADDRESSES: Erica Seiden, Program Specialist, NOAA/Estuarine Reserves Division, 1305 East-West Highway, N/ORM5, SSMC4, 11th Floor, Silver Spring, MD 20910, Attn: FY00 NERRS Research. Phone: 301-713-3155 ext. 172 Fax: 301-713-4363, internet: erica.seiden@noaa.gov. Web page: http://www.ocrm.nos.noaa.gov/nerr/fellow.html. See Appendix I for National Estuarine Research Reserve addresses.

FOR FURTHER INFORMATION CONTACT: For further information on specific research opportunities at National Estuarine Research Reserve sites, contact the site staff listed in Appendix I or the program specialist listed in the Addresses section above. For application information, contact Erica Seiden of the Estuarine Reserves Division (see Addresses above).

SUPPLEMENTARY INFORMATION:

I. Authority and Background

Section 315 of the Coastal Zone Management Act of 1972, as amended (CZMA), 16 U.S.C. 1461, establishes the National Estuarine Research Reserve System (NERRS). 16 U.S.C. 1461 (e)(1)(B) authorizes the Secretary of Commerce to make grants to any coastal state or public or private person for purposes of supporting research and monitoring within a National Estuarine Research Reserve that are consistent with the research guidelines developed under subsection (c). This program is listed in the Catalog of Federal Domestic Assistance (CFDA) under “Coastal Zone Management Estuarine Research Reserves,” Number 11.420.

II. Information on Established National Estuarine Research Reserves

The NERRS consists of estuarine areas of the United States and its territories which are designated and managed for research and educational purposes. Each National Estuarine Research Reserve within the NERRS is chosen to reflect regional differences and to include a variety of ecosystem types in accordance with the classification scheme of the national program as presented in 15 CFR part 921.

Each Reserve supports a wide range of beneficial uses of ecological, economic, recreational, and aesthetic values which are dependent upon the maintenance of a healthy ecosystem. The sites provide habitats for a wide range of ecologically and commercially important species of fish, shellfish, birds, and other aquatic and terrestrial wildlife. Each Reserve has been designed to ensure its effectiveness as a conservation unit and as a site for long-term research and monitoring. As part of a national system, the Reserves collectively provide an excellent opportunity to address research questions and estuarine management issues of national significance. For a detailed description of the sites, contact the individual site staff or refer to the NERR internet Web site provided in the Addresses section.

III. Availability of Funds

Funds are expected to be available on a competitive basis to qualified graduate students for research within National Estuarine Research Reserves leading to a graduate degree. No more than two fellowships at any one site will be funded at any one time; based upon fellowships awarded in the 2001 funding cycle, we anticipate 18 openings for Fellowships in FY02. Fellowships are expected to be available at the following sites:

NERR Site | Fellowships
Ashepoo Combahee
Edisto Basin, SC | 1
Apalachicola, FL | 1
Chesapeake Bay, MD | 1
Elkhorn Slough, CA | 1
Grand Bay, MS | 1
Great Bay, NH | 2
Hudson River, NY | 1
Jobos Bay, PR | 1
Kachemak Bay, AK | 2
Old Woman Creek, OH | 2
Padilla Bay, WA | 1
Rookery Bay, FL | 2
Weeks Bay, AL | 1
Wells, ME | 1

Because NOAA is an active partner in NERRS research, funds will be awarded through a cooperative agreement. NOAA may be involved in the award in the following manner:

The Estuarine Reserves Division (ERD), Office of Ocean and Coastal Resource Management, reserves the right to immediately halt activity under this award if it becomes obvious that award activities are not fulfilling the mission of the National Estuarine Research Reserve System. While day-to-day management is the responsibility of the recipient, frequent guidance and direction is provided by the Federal Government for the successful conduct of this award. Non-compliance with a Federally approved project may result in immediate halting of the award.

ERD generally will review and approve each stage of work annually before the next begins to assure that studies will produce viable information on which to form valid coastal management decisions.

All staff at NERRS sites are ineligible to submit an application for a fellowship under this Announcement. Federal funds requested must be matched by the applicant by at least 30% of the TOTAL cost, not the Federal share, of the project. Students receiving fellowship funding under this announcement will begin June 1, 2002.

IV. Purpose and Priorities

NERR Research funds are provided to support management-related research projects that will enhance scientific understanding of the Reserve ecosystem, provide information needed by Reserve management and coastal management decision-makers, and improve public awareness and understanding of estuarine ecosystems and estuarine management issues (15 CFR 921.50).

The NERR Graduate Research Fellowship program is designed to fund high quality research focused on enhancing coastal zone management while providing students with an opportunity to contribute to the research or monitoring program at a particular Reserve site.

Research projects proposed in response to this announcement must: (1) Address coastal management issues identified as having local, regional, or national significance, described in the “Scientific Areas of Support” below; and (2) be conducted within one or more designated NERR sites.

Funding ($17,500 per year) is intended to provide any combination of research support, salary, tuition, supplies, or other costs as needed, including overhead. All current and prospective fellows will be eligible to receive $17,500 in federal funds. This amount is a $1,000 increase from previous funding years. Fellows will be expected to participate in the Reserve's research or monitoring program for up to a maximum of 15 hours per week. The work plan should be devised cooperatively with the Reserve's Research Coordinator. Fellows conducting multi-site projects may fulfill this requirement at one or a combination of sites but for no more than a total of 15 hours per week. This program may occur throughout the academic year or may be concentrated during a specific season.

Scientific Areas of Support

The NERRS program has identified the following as areas of nationally significant research interest. Proposed research projects submitted in response to this announcement must address one of the following topics (see #1 above):

• The effects of non-point source pollution on estuarine ecosystems;

• Evaluative criteria and/or methods for estuarine ecosystem restoration;

• The importance of biodiversity and effects of invasive species on estuarine ecosystems;

• Mechanisms for sustaining resources within estuarine ecosystems; or

• Socioeconomic research applicable to estuarine ecosystem management.

Each NERR has local issues of concern that fall within one of the topics above.

Note: It is strongly suggested that applicants contact the host Reserve (see Appendix I) for general information about the Reserve and its research needs and priorities as they relate to this announcement. Applicants should determine whether their proposed projects are relevant to the Reserve's site specific research needs.

V. Guidelines for Application Preparation, Review, and Reporting Requirements

Applicants for ERD research fellowships must follow the guidelines presented in this announcement. Applications not adhering to these guidelines may be returned to the applicant without further review.

Applications for graduate fellowships in the NERRS are solicited annually for award the following fiscal year. Minority students are encouraged to apply. Application due dates and other pertinent information are contained in this announcement of research opportunities. Applicants must submit an original and two (2) copies of each application and all supporting documents (curricula vitae, literature referenced, unofficial transcripts, etc.), excluding letters of reference which must come directly from their source.

Applicants may request funding for up to three years; funding for years two and three will be made available based on availability of funds and satisfactory progress of research as determined by the Host NERR Research Staff and the student's faculty advisor, in consultation with ERD. The amount of the award is $17,500/annum which represents 70% of the award total. Requested overhead costs under NERRS fellowship awards are limited to $1,750 of the Federal amount. Requested Federal funds must be matched by at least 30 percent of the award total (ie. $7,500 match for $17,500 in Federal funds for a total project cost of $25,000).

Applicants who are selected for funding will be required to: (1) Work with the Research Coordinator or Reserve Manager to develop a plan to participate in the research or monitoring program for up to 15 hours per week; (2) submit semi-annual progress reports to ERD and the host Reserve before the end of each funding cycle on the research accomplishments to date; and (3) acknowledge NERRS support in all relevant scientific presentations and publications. In addition, fellows are strongly encouraged to publish their results in peer-reviewed literature and make presentations at scientific meetings.

A. Applications

Students admitted to or enrolled in a full-time Master's or Doctoral program at U.S. accredited universities are eligible to apply. Students should have completed a majority of their course work at the beginning of their fellowship and have an approved thesis research program.

Applicants Are Required To Submit

(1) An academic resume or a curriculum vitae that includes all graduate and undergraduate institutions (department or area of study, degree, and year of graduation), all publications (including undergraduate and graduate theses), awards or fellowships, and work/research experience;

(2) A cover letter from the applicant indicating current academic status, research interests, career goals, and how the proposed research fits into their degree program, and it is strongly suggested that the results of discussions with host NERR staff regarding their contributions to the Reserve's research or monitoring program;

(3) A titled research proposal (double-spaced in a font no smaller than 12-point courier) that includes an Abstract, Introduction, Methods and Materials, Project Significance, and Bibliography;

(4) A proposed budget (see Section B, Proposal Content, below for specific guidelines);

(5) An unofficial copy of all undergraduate and graduate transcripts;

(6) A signed letter of support from the applicant's graduate advisor indicating the advisor's contribution (financial and otherwise) to the applicant's graduate studies, and an assurance that the student is in good academic standing; and

(7) Two letters of recommendations (from other than the applicant's graduate advisor) sent directly from their source.

Note: Electronically transmitted letters of support are not acceptable.

One original and two (2) copies of the information requested above, excluding letters of reference and transcripts, must be submitted to the ERD Program Specialist at the address in the Addresses section. All materials must be postmarked no later than November 1, 2001. Applications postmarked November 2, 2001 or later, will be returned without review. Receipt of all applications will be acknowledged and a copy sent to the appropriate Reserve staff for review.

B. Proposal Content

The research proposal must contain the sections described below.

1. Title Page

The title page must include:

• Name, address, telephone number, fax number, email address of applicant, and date;

• Project title;

• Amount of funding requested;

• Name of graduate institution;

• Name of institution providing matching funds and amount of matching funds;

• Name, address, telephone number, fax number & email address of faculty advisor;

• NERR site where research is to be conducted; and

• Number of years of requested support.

If it is a multi-site project, the title page must indicate which Reserve will be the primary contact (“host Reserve”).

2. Abstract

The abstract must state the research objectives, scientific methods to be used, and the significance of the project to a particular Reserve and the NERRS program. The abstract must be limited to one double-spaced page.

3. Project Description

The project description must be limited to 6 double-spaced pages excluding figures. The main body of the proposal must include a detailed statement of the work to be undertaken and the following components:

(a) Introduction. This section should introduce the research setting and environment. It should include a brief review of pertinent literature and describe the research problem in relation to relevant coastal management issues and the research priorities. This section should also present the primary hypothesis upon which the project is focused, as well as any additional or component hypotheses which will be addressed by the research project.

(b) Methods. This section should state the method(s) to be used to accomplish the specific research objectives, including a systematic discussion of what, when, where, and how the data are to be collected, analyzed, and reported. Field and laboratory methods should be scientifically valid and reliable and should be accompanied by a statistically sound sampling scheme. Methods chosen should be justified and compared with other methods employed for similar work.

Techniques should allow the testing of the hypotheses, but should also provide baseline data related to ecological and management questions concerning the Reserve environment. Methods should be described concisely and techniques should be reliable enough to allow comparison with those made at different sites and times by different investigators. The methods must have proven their utility as indicators for natural or human-induced change.

Analytical methods and statistical tests applied to the data should be documented, thus providing a rationale for choosing one set of methods over alternatives. Quality control measures also should be documented (e.g., statistical confidence levels, standards of reference, performance requirements, internal evaluation criteria). The proposal should indicate by way of discussion how data are to be synthesized, interpreted and integrated into final work products.

A map clearly showing the study location and any other features of interest must be included; a U.S. Geological Survey topographic map, or an equivalent, is suggested for this purpose. Consultation with Reserve personnel to identify existing maps is strongly recommended.

(c) Project Significance. This section should provide a clear discussion of how the proposed research addresses state and national estuarine and coastal resource management issues and how the proposed research effort will enhance or contribute to improving the state of knowledge of the estuary; i.e., why is the proposed research important and how will the results contribute to coastal resource management? This section must also discuss the relation of the proposed research to the research priorities stated in Section IV. Applicability of research findings to other NERRS and coastal areas should also be mentioned. In addition, if the proposed research is part of a larger research project, the relationship between the two should be described.

4. Milestone Schedule

A milestone schedule is required. This schedule should show, in table form, anticipated dates for completing field work and data collection, data analysis, progress reports, the final technical report and other related activities. Use “Month 1, Month 2, etc.” rather than “June, July, etc.,” in preparing these charts.

5. Personnel and Project Management

The proposal must include a description of how the project will be managed, including the names and expertise of faculty advisors and other team members. Evidence of ability to successfully complete the proposed research should be supported by reference to similar efforts previously performed.

6. Literature Cited

This section should provide complete references for literature, research, and other appropriate published and unpublished documents cited in the text of the proposal.

7. Budget

The amount of Federal funds requested must be matched by the applicant by at least 30% of the total project cost (i.e., $7,500 match for $17,500 in Federal funds for a total project cost of $25,000). Cash or in-kind contributions directly benefitting the research project may be used to satisfy the matching requirements. Overhead costs for these awards are limited to $1,750 of the Federal share (i.e., $15,750 for project and $1,750 for overhead) and waived overhead costs may also be used as match. Funds from other Federal agencies and NERRS staff salaries supported by Federal funds may not be used as match. Requirements for the non-Federal share are contained in 15 CFR Part 14, Uniform administrative requirements for grants and agreements with institutions of higher education, hospitals, other nonprofit and commercial organizations. ERD strongly suggests that the applicant work with their institution's research office to develop their budget (see section D, below).

The applicant may request funds under any of the categories listed below as long as the costs are reasonable and necessary to perform research. The budget should contain itemized costs with appropriate narratives justifying proposed expenditures. Budget categories are to be broken down as follows, clearly showing both Federal and non-Federal shares side by side:

—Salary. The rate of pay (hourly, monthly, or annually) should be indicated. Salaries requested must be consistent with the institution's regular practices. The submitting organization may request that salary data remain confidential.

—Fringe Benefits. Fringe benefits (i.e., social security, insurance, retirement) may be treated as direct costs as long as this is consistent with the institution's regular practices.

—Equipment. Fellowship funds may be approved for the purchase of equipment only if the following conditions are met: (a) A lease versus purchase analysis has been conducted by the applicant or the applicant's institution for equipment that costs greater than $5000 and the analyses indicate that purchase is the most economical method of procurement; (b) the equipment does not exist at the recipient's institution or the Reserve site; and, the equipment is essential for the successful completion of the project.

The justification must address each of these criteria. It must also describe the purpose of the equipment and provide a justification for its use. Additionally, it must include a list of equipment to be purchased, leased, or rented by model number and manufacturer, where known. At the termination of the fellowship, disposition of equipment will be determined by the NOAA Property Administrator.

—Travel. The type, extent, and estimated cost (broken down by transportation, lodging and per diem) of travel should be explained and justified in relation to the proposed research; the justification should also identify the person traveling. Travel expenses are limited to round trip travel to field research locations and professional meetings to present the research results and should not exceed 40 percent of total award.

—Other Direct Costs. Other anticipated costs should be itemized under the following categories:

• Materials and Supplies. The budget should indicate in general terms the types of expendable materials and supplies required and their estimated costs;

• Research Vessel or Aircraft Rental. Include purpose, unit cost, duration of use, user, and justification;

• Laboratory Space Rental. Funds may be requested for use of laboratory space at research establishments away from the student's institution while conducting studies specifically related to the proposed effort;

• Telecommunication Services and Reproduction Costs. Include expenses associated with telephone calls, facsimile, copying, reprint charges, film duplication, etc.;

• Computer Services. The cost of unusual or costly computer services may be requested and must be justified.

—Indirect Costs. Requested overhead costs under NERRS fellowship awards are limited to $1,750 of the portion provided by Federal funding.

8. Requests for Reserve Support Services

On-site Reserve personnel sometimes can provide limited logistical support for research projects in the form of manpower, equipment, supplies, etc. Any request for Reserve support services, including any services provided as match, should be approved by the Reserve Manager or Research Coordinator prior to application submission and be included as part of the application package in the form of written correspondence. Reserve resources which are supported by Federal funds are not eligible to be used as match.

9. Coordination With Other Research in Progress or Proposed

ERD encourages collaboration and cost-sharing with other investigators to enhance scientific capabilities and avoid unnecessary duplication of effort. Applications should include a description of how the research will be coordinated with other research projects that are in progress or proposed, if applicable.

10. Permits

The applicant must apply for any applicable local, state or Federal permits. A copy of any permit applications and supporting documentation should be attached to the application as appendices. ERD must receive notification of the approval of the permit application before funding can be approved.

C. Application Review and Evaluation

All applications will be evaluated for scientific merit by ERD staff, the host Reserve scientific panel of no less than three reviewers from the scientific community, and the appropriate Research Coordinator and/or Reserve Manager. Criteria for evaluation are: (1) The quality of proposed research and its applicability to the NERRS Scientific Areas of Support listed earlier in this announcement (70%); (2) the research's applicability to specific Reserve research and resource management goals as they relate to the Scientific Areas of Support listed in this announcement(20%); and (3) academic excellence based on the applicant's transcripts and two letters of reference (10%). No more than two Fellowships will be awarded at any one time for any one Reserve. Final selection will be made by the Chief of the Estuarine Reserves Division.

D. Fellowship Awards

Awards are normally made to the fellow's graduate institution through the use of a cooperative agreement. Applicants whose projects are recommended for funding will be required to complete all necessary Federal financial assistance forms (SF-424, SF-424A, SF-424B, CD-511, and SF-LLL), which will be provided by ERD with the letter of fellowship notification. ERD recommends that all applicants work with their graduate institution during the development of their budget to ensure concurrence on budgetary issues (e.g. the use of salary and fringe benefits as match).

VI. Other Requirements

Recipients and sub-recipients are subject to all Federal laws and Federal and DOC policies, regulations, and procedures applicable to Federal financial assistance awards.

All applicants are subject to a name-check review process. Name checks are intended to reveal if any key individuals associated with the applicant have been convicted of or are presently facing criminal charges such as fraud, theft, perjury, or other matters which significantly reflect on the applicant's management honesty or financial integrity.

No award of Federal funds shall be made to an applicant who has an outstanding delinquent Federal debt until either: (1) The delinquent account is paid in full; (2) A negotiated repayment schedule is established and at least one payment is received; or (3) Other arrangements satisfactory to the Department of Commerce (DOC) are made.

Unsatisfactory performance under prior Federal awards may result in an application not being considered for funding. In addition, any recipients who are past due for submitting acceptable final reports under any previous ERD-funded research will be ineligible to be considered for new awards until final reports are received, reviewed and deemed acceptable by ERD.

A false statement on an application is grounds for denial or termination of funds and grounds for possible punishment by a fine or imprisonment as provided in 18 U.S.C. 1001.

If an application is selected for funding, the Department of Commerce has no obligation to provide any additional future funding in connection with that award. Renewal of an award to increase funding or extend the period of performance is at the total discretion of the DOC. However, funding priority will be given to the additional years of multi-year proposals upon satisfactory completion of the current year of research.

Applications under this program are subject to Executive Order 12372, “Intergovernmental Review of Federal Programs.”

All primary applicants must submit a completed Form CD-511, “Certifications Regarding Debarment, Suspension and Other Responsibility Matter; Drug-Free Workplace Requirements and Lobbying,” and the following explanations are hereby provided:

1. Nonprocurement Debarment and Suspension

Prospective participants (as defined at 15 CFR part 26, section 105) are subject to 15 CFR part 26, “Nonprocurement Debarment and Suspension,” and the related section of the certification form prescribed above applies;

2. Drug-Free Workplace

Grantees (as defined at 15 CFR part 26, section 605) are subject to 15 CFR part 26, Subpart F, “Government-wide Requirements for Drug-Free Workplace (Grants)” and the related section of the certification form prescribed above applies;

3. Anti-Lobbying

Persons (as defined at 15 CFR part 28, section 105) are subject to the lobbying provisions of 31 U.S.C. 1352, “Limitation on the use of appropriated funds to influence certain Federal contracting and financial transactions,” and the lobbying section of the certification form which applies to applications/ bids for grants, cooperative agreements, and contracts for more than $100,000, and loans and loan guarantees for more than $150,000, or the single family maximum mortgage limit for affected programs, whichever is greater; and

4. Anti-Lobbying Disclosures

Any applicant that has paid or will pay for lobbying using any funds must submit an SF-LLL, “Disclosure of Lobbying Activities,” as required under 15 CFR part 28, Appendix B.

5. Lower Tier Certifications

Recipients shall require applicants/bidders for sub-grants, contracts, subcontracts, or other lower tier covered transactions at any tier under the award to submit, if applicable, a completed CD-512, “Certifications Regarding Debarment, Suspension, Ineligibility and Voluntary Exclusion—Lower Tier Covered Transactions and Lobbying,” and disclosure form SF-LLL, “Disclosure of Lobbying Activities.” The original form CD-512 is intended for the use of recipients. SF-LLL submitted by any tier recipient or sub-recipient should be submitted to DOC in accordance with the instructions contained in the award document.

Buy American-Made Equipment or Products: Applicants are hereby notified that any equipment or products authorized to be purchased with funding provided under this program should be American-made to the extent feasible.

Indirect Costs: The total dollar amount of the indirect costs proposed in an application under this program must not exceed the indirect cost rate negotiated and approved by a cognizant Federal agency prior to the proposed effective date of the award or $1,500, whichever is less.

Pre-award Activities: If applicants incur any costs prior to an award being made, they do so solely at their own risk of not being reimbursed by the Government. Notwithstanding any verbal or written assurance that may have been received, there is no obligation on the part of DOC to cover pre-award costs.

VII. Classification

This notice has been determined to be “not significant” for purposes of E.O. 12866.

This action is categorically excluded from the requirement to prepare an environmental assessment by NOAA Administrative Order 216-6.

This notice does not contain policies with federalism implications sufficient to warrant preparation of a federalism assessment under Executive Order 13132.

This notice involves a collection of information subject to the requirements of the Paperwork Reduction Act. The requirements have been approved by the Office of Management and Budget (OMB) under control numbers 0348-0043, 0348-0044, 0348-0040 and 0348-0046.

Notwithstanding any other provision of law, no person is required to respond to, nor shall any person be subject to a penalty for failure to comply with a collection of information, subject to the requirements of the Paperwork Reduction Act, unless that collection displays a currently valid OMB control number.

(Federal Domestic Assistance Catalog Number 11.420 Coastal Zone Management Estuarine Research Reserves)

Dated: July 26, 2001.
Jamison S. Hawkins,
Deputy Assistant Administrator, National Ocean Service.

Appendix I. NERRS On-Site Staff

Alabama

Mr. L.G. Adams, Manager, Dr. Scott Phipps, Research Coordinator, Weeks Bay National Estuarine Research Reserve, 11300 U.S. Highway 98, Fairhope AL 36532, (334) 928-9792, lg.adams@noaa.gov, scott.phipps@noaa.gov

Alaska

Mr. Glenn Seaman, Manager, Dr. Carl Schoch, Research Coordinator, Kachemak Bay National Estuarine Research Reserve, Department of Fish and Game, 2181 Kachemak Drive, Homer, AK 99603, (907) 235-6377, glenn_seaman@fishgame.state.ak.us, carl_schoch@fishgame.state.ak.us

California

Ms. Becky Christensen, Manager, Dr. Kerstin Wasson, Research Coordinator, Elkhorn Slough National Estuarine Research Reserve, 1700 Elkhorn Road, Watsonville, CA 95076, (831) 728-2822, research@elkhornslough.org

Ms. Tessa Roper, Assistant Manager, Mr. Greg Abbott, Acting Research Coordinator, Tijuana River National Estuarine Research Reserve, 301 Caspian Way, Imperial Beach, CA 92032, (619) 575-3613, trnerr@ixpres.com, troper@ixpres.com

Delaware

Mr. Mark Del Vecchio, Manager, Dr. Bob Scarborough, Research Coordinator, Delaware National Estuarine Research Reserve, Department of Natural Resources and Environmental Control, 818 Kitts Hummock Road, Dover, DE 19901, (302) 739-3436, mdelvecchio@state.de.us, bscarboroug@state.de.us

Florida

Mr. Woodward Miley II, Manager, Mr. Lee Edmiston, Research Coordinator, Apalachicola River National Estuarine Research Reserve, Florida Department of Environmental Protection, 350 Carroll Street, Eastpoint FL 32320, (850) 670-4783, woodard.miley@dep.state.fl.us, lee.edmiston@dep.state.fl.us

Mr. Kenneth Berk, Guana Tolomato Matanzas National Estuarine Research Reserve, Florida Department of Environmental Protection, 9741 Ocean Shore Boulevard, Marineland FL 32080, (904) 461-4054 kenberk@aug.com

Mr. Gary Lytton, Manager, Dr. Michael Shirley, Research Coordinator, Rookery Bay National Estuarine Research Reserve, Department of Environmental Protection, 300 Tower Road, Naples FL 34113-8059, (941) 417-6310, gary.lytton@dep.state.fl.us, michael.shirley@dep.state.fl.us

Georgia

Mr. Buddy Sullivan, Mr. Dorset Hurley, Sapelo Island National Estuarine Research Reserve, P.O. Box 15, Sapelo Island GA 31327, (912) 485-2251, buddy.sullivan@noaa.gov, dhurley@darientel.net

Maine

Mr. Paul Dest, Manager, Dr. Michele Dionne, Research Coordinator, Wells National Estuarine Research Reserve, 342 Laudholm Farm Road, Wells, ME 04090, (207) 646-1555, pauldest@loa.com, dionne@cybertours.com

Maryland

Ms. Carol Towle, Manager, Chesapeake Bay National Estuarine Research Reserve, MD, Department of Natural Resources, Tawes State Office Building E-2, 580 Taylor Avenue,

Annapolis, MD 21401, (410) 260-8713, ctowle@dnr.state.md.us

Massachusetts

Ms. Christine Gault, Manager, Dr. Chris Weidman, Research Coordinator, Waquoit Bay National Estuarine Research Reserve, Department of Environmental Management, P. O. Box 3092, Waquoit, MA 02536, (508) 457-0495, wbnerr@capecod.net, cweidman@capecod.net

Mississippi

Mr. Peter Hoar, Manager, Grand Bay National Estuarine Research Reserve, Department of Marine Resources 6005 Bayou Heron Road, Moss Point, MS 39562, (228) 475-7047, peter.hoar@dmr.state.ms.us

New Hampshire

Mr. Peter Wellenberger, Manager, Dr. Brian Smith, Research Coordinator, Great Bay National Estuarine Research Reserve, New Hampshire Department of Fish and Game, 225 Main Street, Durham, NH 03824, (603) 868-1095, pwellenberger@starband.net, bmsmith@starband.net

New Jersey

Mr. Michael De Luca, Manager, Dr. Michael Kennish, Research Coordinator, Mullica River National Estuarine Research Reserve, Institute of Marine and Coastal Sciences, Rutgers University 71 Dudley Road, New Brunswick, NJ 08903, (732) 932-6555, deluca@imcs.rutgers.edu, kennish@imcs.rutgers.edu

New York

Ms. Elizabeth Blair, Manager, Mr. Chuck Nieder, Research Coordinator, Hudson River National Estuarine Research Reserve, New York State Department of Environmental Conservation, c/o Bard College Field Station, Annandale-on-Hudson, NY 12504, (845) 758-7010, bablair@gw.dec.state.ny.us, wcnieder@gw.dec.state.ny.us

North Carolina

Dr. John Taggart, Manager, Dr. Steve Ross, Research Coordinator, North Carolina National Estuarine Research Reserve, 5001 Masonboro Loop Road, 1 Marvin Moss Lane, Wilmington, NC 28409, (910) 395-3905, taggartj@uncwil.edu, rosss@uncwil.edu

Ohio

Mr. Eugene Wright, Manager, Dr. David Klarer, Research Coordinator, Old Woman Creek National Estuarine Research Reserve, 2514 Cleveland Road, East, Huron, OH 44839, (419) 433-4601, gene.wright@noaa.gov, david.klarer@noaa.gov

Oregon

Mr. Michael Graybill, Manager, Dr. Steve Rumrill, Research Coordinator, South Slough National Estuarine Research Reserve, P. O. Box 5417, Charleston, OR 97420, (541) 888-5558, ssnerr@harborside.com

Puerto Rico

Ms. Carmen Gonzalez, Manager, Dr. Pedro Robles, Research Coordinator, Jobos Bay National Estuarine Research Reserve, Department of Natural and Environmental Resources, Call Box B, Aguirre, PR 00704, (787) 853-4617, carmen.gonzalez@noaa.gov, pedro.robles@noaa.gov

Rhode Island

Mr. Roger Greene, Manager, Dr. Chris Deacutis, Research Coordinator, Narragansett Bay National Estuarine Research Reserve, Department of Environmental Management, Box 151, Prudence Island, RI 02872, (401) 683-6780, roger.greene@noaa.gov, deacutis@etal.uri.edu

South Carolina

Mr. Michael D. McKenzie, Manager, Dr. Elizabeth Wenner, Research Coordinator, Ashepoo-Combahee-Edisto (ACE) Basin, South Carolina Department of Natural Resources, P.O. Box 12559, Charleston, SC 29412, (843) 762-5062, mckenziem@mrd.dnr.state.sc.us, wennere@mrd.dnr.state.sc.us

Dr. Dennis Allen, Manager, Dr. Drew Lohrer, Research Coordinator, North Inlet-Winyah Bay National Estuarine Research Reserve, Baruch Marine Field Laboratory, P. O. Box 1630, Georgetown, SC 29442, (803) 546-3623, dallen@belle.baruch.sc.edu, lohrer@belle.baruch.sc.edu

Virginia

Dr. Maurice P. Lynch, Manager, Dr. William Reay, Research Coordinator, Chesapeake Bay National Estuarine Research Reserve, VA, Virginia Institute of Marine Science, College of William and Mary, P.O. Box 1347, Gloucester Point, VA 23062, (804) 684-7135, wreay@vims.edu

Washington

Mr. Terry Stevens, Manager, Dr. Douglas Bulthuis, Research Coordinator, Padilla Bay National Estuarine Research Reserve, 10441 Bay View-Edison Road, Mt. Vernon, WA 98273-9668, (360) 428-1558, tstevens@padillabay.gov, bulthuis@padillabay.gov

[FR Doc. 01-19400 Filed 8-2-01; 8:45 am]

BILLING CODE 3510-08-P